DEPARTMENT OF HEALTH AND HUMAN SERVICES

Health Care Financing Administration

[Document Identifier: HCFA-10015]

Agency Information Collection Activities: Submission for OMB Review; Comment Request

In compliance with the requirement of section 3506(c)(2)A) of the Paperwork Reduction Act of 1995, the Health Care Financing Administration (HCFA), Department of Health and Human Services, has submitted to the Office of Management and Budget (OMB) the following proposal for the collection of information. Interested persons are invited to send comments regarding the burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: New collection.

Title of Information Collection: Evaluation of the Qualified Medicare Beneficiary (QMB) and Specified Low-Income Medicare Beneficiary (SLMB) Programs—Beneficiary Survey.

Form No.: HCFA-10015 (OMB#0938-NEW).

Use: Medicare beneficiaries eligible for the Qualified Medicare Beneficiary (QMB) and Specified Low-Income Medicare Beneficiary (SLMB) Programs will be surveyed. Numerous studies have shown that large numbers of potentially eligible QMB's and SLMB's do not participate in these programs. To further its goals under GPRA, the Health Care Financing Administration (HCFA) needs information on the effects of the QMB and SLMB programs. This project will help HCFA do develop a better understanding of the reasons for the low participation rates among the potential eligibles for both programs. Also, it will provide HCFA with information on the awareness of the QMB and SLMB programs; the paths and barriers to QMB and SLMB enrollment and the benefits of the QMB and SLMB coverage;

Frequency: Other: One-Timer.

Affected Public: Individuals or Households.

Number of Respondents: 1,500.

Total Annual Responses: 1,500.

Total Annual Hours: 500.

To obtain copies of the supporting statement for the proposed paperwork collections referenced above, access HCFA's Web Site Address at http://www.hcfa.gov/regs/prdact95.htm, or E-mail your request, including your address and phone number, to Paperwork@hcfa.gov, or call the Reports Clearance Office on (410) 786-1326. Written comments and recommendations for the proposed information collections must be mailed within 30 days of this notice directly to the OMB Desk Officer designated at the following address: OMB Human Resources and Housing Branch, Attention: Allison Eydt, New Executive Office Building, Room 10235, Washington, D.C. 20503.

Dated: October 11, 2000.
John P. Burke, III,
HCFA Reports Clearance Officer, HCFA, Office of Information Services, Security and Standards Group, Division of HCFA Enterprise Standards.

[FR Doc. 00-27017 Filed 10-19-00; 8:45 am]

BILLING CODE 4120-03-M